POSTAL SERVICE

39 CFR Part 111

New Polywrap Standards for Automation-Rate Flat-Size Mail

AGENCY: Postal Service.™

ACTION: Proposed rule.

SUMMARY: The Postal Service proposes to require mailers to use polywrap film meeting one set of specifications when using polywrap on automation-rate flat-size mailpieces.

DATES: We must receive your comments on or before September 21, 2006.

ADDRESSES: Mail or deliver written comments to the Manager, Mailing Standards, U.S. Postal Service, 475 L'Enfant Plaza SW., Room 3436, Washington DC 20260-3436. You may inspect and photocopy all written comments at USPS Headquarters Library, 475 L'Enfant Plaza SW., 11th Floor N, Washington DC between 9 a.m. and 4 p.m., Monday through Friday.

FOR FURTHER INFORMATION CONTACT: Bill Chatfield, 202-268-7278.

SUPPLEMENTARY INFORMATION: Efficient processing of automation-rate flat-size mailpieces enables the Postal Service to process the substantial volume of polywrapped pieces on our equipment without causing jams, multiple feeds, and missorted mail. Automated flat sorting machines (AFSM 100) process the majority of our flat-size mail. We have moved many of our upgraded flat sorting machines (UFSM 1000) out of facilities where we use AFSM 100s. To improve our ability to process polywrapped pieces on our primary flat-mail processing equipment, we propose that all polywrap films used on automation-rate flat-size mail meet our revised standards. The new standards would eliminate the current difference in polywrap specifications for mail designed for processing on the AFSM 100 and the UFSM 1000.

Background

In 2001, we ran extensive tests of flat-size mailpieces on our AFSM 100 machines. As a result, we added a specification for “blocking”—the chemical bonding of films to themselves—to our polywrap specifications to help prevent polywrapped pieces from sticking together during processing. But this simple change did not result in a noticeable improvement in the performance of polywrapped mailpieces.

Therefore, we initiated a test program to more accurately define the polywrap characteristics best suited to automated processing of flat-size mail. We performed complete testing on over 100 types of polywrap submitted by polywrap manufacturers. We then selected 46 films (polyethylene, polypropylene, and shrinkwrap) to test on the AFSM 100. We processed 500-piece test decks and collected extensive data to evaluate performance. Again, blocking was the physical attribute that most influenced processing compatibility.

As a result of the testing, we propose revised characteristics for polywrap materials used on automation-rate flat-size mailpieces. We would remove two characteristics, tensile strength and density, because they were irrelevant to performance. We also would remove the “USPS AFSM 100 Approved Polywrap” endorsement requirement. We would change the testing protocol to measure the minimum film-to-metal coefficient of friction to bring consistency to this characteristic across all polywrap manufacturers. We would broaden the film-to-film coefficient of friction, which should help mailers in bundling mailpieces by minimizing the instability of bundles as they exit their stacking equipment. While we would not change the blocking specification, we propose to change the method to measure blocking to more closely match the environment that mailpieces undergo during normal transportation and storage.

Polywrap Certification Program

Currently, manufacturers requesting approval of their polywrap materials for automation-rate flat-size mail provide us with a certificate stating that their material complies with the polywrap specifications for AFSM 100 mailpieces. After manufacturers provide this certificate, we include the manufacturer's material in the list of approved polywrap for flat-size mailpieces mailed at automation discount rates.

New Test Procedures

To ensure that all manufacturers use the same criteria in meeting the new specifications, we have developed specification USPS-T-3204, “Test Procedures for Automatable Polywrap.” Manufacturers may obtain the new test procedures at http://ribbs.usps.gov (click on “Polywrap Manufacturers” in the left frame) or by contacting USPS Engineering at: Engineering, Flat Mail Technology, U.S. Postal Service, 8403 Lee Hwy, Merrifield VA 22082-8101.

The specification describes exact test procedures and acceptable values for polywrap film characteristics. Should the manufacturer not have the facilities or experience to conduct each of the test procedures in USPS-T-3204, the specification also provides a list of testing laboratories that have experience in conducting these tests.

Recertification

Consistent with our current process, manufacturers would provide an updated certificate of conformance on their letterhead to USPS Mailing Standards after verifying that each polywrap film meets the new characteristics. The certificate of conformance must state the values for each of the six characteristics.

Implementation

We encourage manufacturers to certify their polywrap under the new specifications as soon as possible. We also encourage mailers to use polywrap meeting the new specifications on their mailpieces as soon as practical. Beginning February 4, 2007, all polywrap films used on automation-rate flat-size mailpieces would have to meet the new standards.

Although we are exempt from the notice and comment requirements of the Administrative Procedure Act [5 U.S.C. of 553(b),(c)] regarding proposed rulemaking by 39 U.S.C. 410(a), we invite public comments on the following proposed revisions to Mailing Standards of the United States Postal Service, Domestic Mail Manual (DMM), incorporated by reference in the Code of Federal Regulations. See 39 CFR 111.1.

List of Subjects in 39 CFR Part 111:

Administrative practice and procedure, Postal Service.

Accordingly, 39 CFR part 111 is proposed to be amended as follows:

PART 111—[AMENDED]

1. The authority citation for 39 CFR Part 111 continues to read as follows:

Authority: 5 U.S.C. 552(a); 39 U.S.C. 101, 401, 403, 404, 3001-3011, 3201-3219, 3403-3406, 3621, 3626, 5001.

2. Amend the following sections of Mailing Standards of the United States Postal Service, Domestic Mail Manual (DMM), as explained below:

300 Discount Flats

301 Physical Standards

* * * * *

3.0 Physical Standards for Automation Flats

* * * * *

3.5 Polywrap Coverings

3.5.1 Polywrap Films

[Revise 3.5.1 by changing the introduction and removing items a and b to eliminate the distinction between polywrap used on pieces qualifying for AFSM 100 and UFSM 1000, as follows:]

Polywrapped flat-size mailpieces claimed at automation rates must meet the standards in 3.5. Film approved for use under 3.5.4 and 3.5.5 must meet the specifications in Exhibit 3.5.1. If mailers affix the address label to the outside of the polywrap, the film does not have to meet the haze property.

Exhibit 3.5.1 Polywrap Specifications

[Revise Exhibit 3.5.1 by changing the introduction, eliminating the distinction between AFSM 100 and UFSM 1000 pieces, removing current properties 4 and 5 and renumbering properties 6 through 8 as properties 4 through 6, changing the specification and testing methods for coefficients of friction, revising the comments for “blocking,” and specifying testing methods according to USPS specification T-3204, as follows:]

Effective February 4, 2007, mailers who polywrap automation-rate flats must use polywrap that meets all of the properties in this exhibit.

Property | Requirement | Test methods in USPS T-3204 | Comment
1. Kinetic Coefficient of Friction, MD
a. Film on Stainless Steel with No. 8 (Mirror) Finish | <0.45 | USPS-T-3204 Section 4.5.2
b. Film on Film | 0.20 to 0.55 | USPS-T-3204 Section 4.5.1
* * * * * * *
6. Blocking | <15 g | USPS-T-3204 Section 4.5.6 | To be conducted at 140 degrees Fahrenheit.
* * * * * * *

[Delete 3.5.4 to remove the requirement for markings on polywrap.]

[Renumber current 3.5.5 as new 3.5.4 and revise the title and text to require polywrap meeting new standards as of February 4, 2007, as follows:]

3.5.4 Polywrap on Mailpieces

Effective February 4, 2007, mailers claiming automation flat rates for polywrapped pieces must use polywrap that meets the new specifications in 3.5.1 and is on the new USPS list of approved materials. Only products listed on the USPS “RIBBS” Web site (http://ribbs.usps.gov) may be used on automation-rate flats.

[Add new 3.5.5 to specify the certification process for polywrap manufacturers, as follows:]

3.5.5 Polywrap Certification Process for Manufacturers

To ensure that all polywrap manufacturers use the same criteria in meeting the new specifications, the Postal Service developed specification USPS-T-3204, “Test Procedures for Automatable Polywrap.” This specification describes exact test procedures and acceptable values for polywrap film characteristics. Should the polywrap manufacturer not have the facilities or experience to conduct each of the test procedures in USPS-T-3204, the specification includes a list of independent testing laboratories that have experience in conducting these tests. Customers may obtain the new test procedures by contacting USPS Engineering (see 608.8.1 for address). Effective February 4, 2007, manufacturers must submit a letter, on their letterhead, for each polywrap film indicating compliance with each of the specifications in 3.5.1 and the value for each specification, to USPS Mailing Standards (see 608.8.1 for address). Manufacturers are encouraged to submit the certificate of conformance prior to February 4, 2007. Upon receipt of the certificate of conformance, USPS will list the polywrap film on http://ribbs.usps.gov. Manufacturers should follow this process before submitting the letter certifying compliance with the specifications:

a. Test each film according to procedures listed in USPS-T-3204, “Test Procedures for Automatable Polywrap Film.”

b. Test each film gauge and surface treatment separately.

* * * * *

We will publish an appropriate amendment to 39 CFR Part 111 if our proposal is adopted.

Neva R. Watson,
Attorney, Legislative.

[FR Doc. E6-13802 Filed 8-21-06; 8:45 am]

BILLING CODE 7710-12-P